DEPARTMENT OF THE INTERIOR

Bureau of Land Management

[LLNVW03000/L51050000.EA0000/LVRCF1000700241A.MO#4500013866;10-08807; TAS:14X5017]

Notice of Temporary Closures and Restrictions on Specific Uses of Public Lands in Pershing County, NV

AGENCY: Bureau of Land Management, Interior.

ACTION: Notice of temporary closures and restrictions.

SUMMARY: Notice is hereby given that under the authority of the Federal Land Policy and Management Act of 1976 (FLPMA), as amended, the Bureau of Land Management (BLM) Winnemucca District, Black Rock Field Office will implement and enforce the following temporary closures and restrictions to protect public safety and resources on public lands within and adjacent to the Burning Man Festival on the Black Rock Desert playa.

DATES: The temporary restrictions will be in effect until September 17, 2010.

FOR FURTHER INFORMATION CONTACT: Gene Seidlitz, District Manager, Bureau of Land Management, Winnemucca District, 5100 E. Winnemucca Boulevard, Winnemucca, NV 89445-2921, telephone: (775) 623-1500, e-mail: gene_seidlitz@blm.gov. Persons who use a telecommunications device for the deaf (TDD) may call the Federal Information Relay Service (FIRS) at 1-800-877-8339 to contact the above individual during normal business hours. The FIRS is available 24 hours a day, 7 days a week, to leave a message or question with the above individual. You will receive a reply during normal hours.

SUPPLEMENTARY INFORMATION: These temporary restrictions affect public lands on and adjacent to the Burning Man Event conducted on the Black Rock Desert playa within the Black Rock Desert-High Rock Canyon Emigrant Trails National Conservation Area in portions of Humboldt, Pershing and Washoe counties, Nevada. The legal description of the affected public lands is:

I. 2010 Event Area:

Mount Diablo Meridian, Nevada

Unsurveyed T. 33 N., R. 24 E.,

Secs. 4, and 5, portions within 50 yards of the Event Entrance Road;

Unsurveyed T. 33½ N., R. 24 E.,

Sec. 25;

Sec. 26 and 27, portions within event perimeter fence and 50 yards outside the fence;

Sec. 33 and 34, portions within 50 yards of the Event Entrance Road;

Sec. 35, portions within event perimeter fence, 50 yards outside the fence and within 50 yards of the Event Entrance Road;

Sec. 36, portions within event perimeter fence, 50 yards outside the fence and the Airport tie-down area.

Unsurveyed T. 34 N., R. 24 E.,

Secs. 25, 26, 34, and 35, portions within event perimeter fence and 50 yards outside the fence.

Sec. 36.

Unsurveyed T. 34 N., R. 25 E.,

Secs. 21, 28, and 33, portions within event perimeter fence and 50 yards outside the fence.

The event area comprises 3,347 acres, more or less.

II. Public Closure Area:

Mount Diablo Meridian, Nevada

Unsurveyed T. 33 N., R. 24 E.,

Sec. 1, N½, portion west of the east playa road;

Sec. 2, N½;

Sec. 3, N½, SW¼;

Sec. 4, portion east of Washoe Co. Rd. 34 and outside the Event Area;

Sec. 5, E½, portion east of Washoe Co. Rd. 34 and outside the Event Area;

Sec. 8, NE¼;

Sec. 9, N½;

Sec. 10, NW¼.

Unsurveyed T. 33½ N., R. 24 E.,

Secs. 26 and 27, portions outside the Event Area;

Sec. 28, portion east of Washoe Co. Rd. 34;

Sec. 33, portions east of Washoe Co. Rd. 34 and outside the Event Area;

Secs. 34, 35 and 36, portions outside the Event Area.

Unsurveyed T. 34 N., R. 24 E.,

Sec. 23, S½;

Sec. 24, S½;

Sec. 25 & 26; portions outside the Event Area;

Sec. 27, SE¼, E½; NE½, E½ SW¼;

Sec. 33, SE¼, S½; NE¼, NE¼ NE¼;

Secs. 34 and 35, portions outside the Event Area;

T. 33 N., R. 25 E.,

Sec. 4, Lots 2, 3, 4 and 5, portions west of the east playa road.

Unsurveyed T. 34 N., R. 25 E.,

Sec. 16, S½;

Sec. 21, portion outside the Event Area;

Sec. 22, SW¼, W½; NW¼;

Sec. 27, W½;

Sec. 33, portion west of the east playa road and outside the Event Area;

Sec. 34; W½, portion west of the east playa road.

The public closure area comprises 9,445 acres, more or less.

The closure and temporary restrictions are necessary to provide a safe environment for the participants of the Burning Man Festival and to members of the public visiting the Black Rock Desert and to protect public land resources by addressing law enforcement and public safety concerns associated with the Burning Man Festival. The Burning Man Festival is held on public lands administered by the Bureau of Land Management. It is expected to attract approximately 48,000 participants to a remote rural area, far from urban infrastructure and support, including law enforcement, public safety, transportation, and communication services. During the festival the associated city becomes the tenth largest metropolitan area in Nevada. This event is authorized on public lands under Special Recreation Permit #NV-025-06-01.

The vast majority of Burning Man Festival participants do not cause any problems for the event organizers or the BLM. Actions by a few participants at previous events have resulted in law enforcement and public safety incidents similar to those observed in urban areas of similar size. Incidents that have required BLM law enforcement action in prior years include the following: Aircraft crashes; motor vehicle accidents with injuries within and outside the event (a temporary fence is installed around the event perimeter); fighting; sexual assaults; assaults on law enforcement officers; reckless or threatening behavior; crimes against property; crowd control issues; issues associated with possession and use of alcoholic beverages; persons acting in a manner where they may pose a danger to themselves or to others; possession, use, and distribution of controlled substances; and increased use of public lands outside the event perimeter.

The Burning Man Festival takes place within Pershing County, a rural county with a small population and a small Sheriff's Department. The county has limited ability to provide additional law enforcement officers to work at the Festival. The temporary closure and the temporary restrictions are necessary to enable BLM law enforcement personnel to provide for public safety and protect the environment on public lands, as well as support state and local law enforcement agencies with enforcement of existing laws.

A temporary closure and restriction order, under the authority of 43 CFR 8364.1, is used because it is more appropriate than establishing Supplementary Rules. A temporary closure and restriction order is specifically tailored to the time frame and restrictions on uses or activities that are necessary to provide a safe environment for the public and for participants in the Burning Man Festival, and protect public land resources, while avoiding imposing restrictions that may not be necessary during the remainder of the year.

The BLM will post information signs about the temporary restrictions at main entry points around the area. This temporary restriction order also will be posted in the BLM Winnemucca District Office. Maps of the affected area and other documents associated with these temporary restrictions are available at the Winnemucca District Office at the address above.

Under the authority of Section 303(a) of the Federal Land Policy and Management Act of 1976 (43 U.S.C. 1733 (a)), 43 CFR 8360.0-7, and 43 CFR 8364.1, the BLM will enforce the following closures and restrictions within and adjacent to the Burning Man Festival on the Black Rock Desert playa:

I. Event Area—Between August 27, 2010, and September 17, 2010 Inclusive

A. Aircraft Landing

The event area is closed to aircraft landing, taking off, or taxiing. Aircraft is defined in Title 18 U.S.C., section 31 (a)(1) and includes lighter-than-air craft and ultra-light craft. The following exceptions apply:

1. Aircraft operations conducted through the authorized event landing strip and such ultra-light and helicopter take-off and landing areas designated for Burning Man event staff and participants, law enforcement, and emergency medical services.

2. Helicopters providing emergency medical services may land in other locations when required for medical incidents.

3. Landings or take-offs of lighter-than-air craft previously approved by the BLM authorized officer.

B. Alcohol

1. Possession of an open container of an alcoholic beverage by the driver or operator of any motorized vehicle, whether or not the vehicle is in motion is prohibited.

2. Possession of alcohol by minors.

(a) The following are prohibited:

(1) Consumption or possession of any alcoholic beverage by a person under 21 years of age on public lands.

(2) Selling, offering to sell, or otherwise furnishing or supplying any alcoholic beverage to a person under 21 years of age on public lands.

(b) This section does not apply to the selling, handling, serving or transporting of alcoholic beverages by a person in the course of his lawful employment by a licensed manufacturer, wholesaler or retailer of alcoholic beverages.

3. Operation of a motor vehicle while under the influence.

(a) Title 43 CFR 8341.1(f)3 prohibits the operation of an off-road motor vehicle on public land while under the influence of alcohol, narcotics, or dangerous drugs.

(b) In addition to the prohibition found in 43 CFR 8341.1(f)3, it is prohibited for any person to operate or be in actual physical control of a motor vehicle while:

(1) The operator is under the combined influence of alcohol, a drug, or drugs to a degree that renders the operator incapable of safe operation of that vehicle; or

(2) The alcohol concentration in the operator's blood or breath is 0.08 grams or more of alcohol per 100 milliliters of blood or 0.08 grams or more of alcohol per 210 liters of breath.

(c) Tests:

(1) At the request or direction of any law enforcement officer authorized by the Department of the Interior to enforce this closure and restriction order, who has probable cause to believe that an operator of a motor vehicle has violated a provision of paragraph (a) or (b) of this section, the operator shall submit to one or more tests of the blood, breath, saliva, or urine for the purpose of determining blood alcohol and drug content.

(2) Refusal by an operator to submit to a test is prohibited and proof of refusal may be admissible in any related judicial proceeding.

(3) Any test or tests for the presence of alcohol and drugs shall be determined by and administered at the direction of an authorized person.

(4) Any test shall be conducted by using accepted scientific methods and equipment of proven accuracy and reliability operated by personnel certified in its use.

(d) Presumptive levels:

(1) The results of chemical or other quantitative tests are intended to supplement the elements of probable cause used as the basis for the arrest of an operator charged with a violation of paragraph (a) of this section. If the alcohol concentration in the operator's blood or breath at the time of testing is less than alcohol concentrations specified in paragraph (b)(2) of this section, this fact does not give rise to any presumption that the operator is or is not under the influence of alcohol.

(2) The provisions of paragraph (d)(1) of this section are not intended to limit the introduction of any other competent evidence bearing upon the question of whether the operator, at the time of the alleged violation, was under the influence of alcohol, a drug or multiple drugs, or any combination thereof.

4. Definitions:

(a) Open container: Any bottle, can, or other container that contains an alcoholic beverage, if that container does not have a closed top or the lid for which the seal has been broken. If a container has been opened one or more times and its lid or top has been replaced, that container is an open container.

(b) Possession of an open container includes any open container that is physically possessed by a driver or operator and is adjacent to and reachable by that driver or operator. This includes but is not limited to containers in a cup holder or rack adjacent to the driver or operator, containers on a vehicle floor next to the driver or operator, and containers on a seat or console area next to a driver or operator.

C. Drug Paraphernalia

1. The possession of drug paraphernalia is prohibited.

2. Definition: Drug paraphernalia means all equipment, products and materials of any kind which are used, intended for use, or designed for use in planting, propagating, cultivating, growing, harvesting, manufacturing, compounding, converting, producing, preparing, testing, analyzing, packaging, repackaging, storing, containing, concealing, injecting, ingesting, inhaling or otherwise introducing into the human body a controlled substance in violation of any state or Federal law, or regulation issued pursuant to law.

D. Disorderly Conduct

1. Disorderly conduct is prohibited.

2. Definition: Disorderly conduct means that an individual, with the intent of recklessly causing public alarm, nuisance, jeopardy, or violence; or recklessly creating a risk thereof:

(a) Engages in fighting or violent behavior.

(b) Uses language, an utterance or gesture, or engages in a display or act that is physically threatening or menacing, or done in a manner that is likely to inflict injury or incite an immediate breach of the peace.

E. Eviction of Persons

1. The event area is closed to any person for the following:

(a) Has been evicted from the event by the permit holder, Black Rock City LLC, (BRC LLC), whether or not the eviction was requested by the BLM.

(b) Has been ordered by a BLM law enforcement officer to leave the area of the permitted event.

2. Any person evicted from the event forfeits all privileges to be present within the perimeter fence or anywhere else within the event area even if they possess a ticket to attend the event.

F. Fires

The ignition of fires on the surface of the Black Rock Playa without a burn blanket or burn pan is prohibited.

G. Fireworks

The use, sale or possession of personal fireworks is prohibited except for uses of fireworks approved by BRC LLC and used as part of a Burning Man sanctioned art burn event.

H. Motor Vehicles

1. The event area is closed to motor vehicle use, except as provided below.

Motor vehicles may be operated within the Event Area under these circumstances:

(a) Participant arrival and departure on designated routes;

(b) Vehicles operated by BRC LLC staff or contractors and service providers on behalf of BRC LLC. During the event, from 12:01 a.m. Monday, August 30, 2010, through 11:59 p.m. Monday, September 6, 2010, these vehicles must display evidence of event registration at all times in such manner that it is visible from the rear of the vehicle while the vehicle is in motion;

(c) BLM, medical, law enforcement, and firefighting vehicles;

(d) Mutant vehicles, art cars, vehicles used by disabled drivers and displaying disabled driver license plates or placards, or other vehicles registered with the Burning Man event organizers and operated within the scope of that registration. Prior to commencement of the event and official issuance of registration documents, such vehicles may be operated for arrival, testing and demonstration purposes only. During the event, from 12:01 a.m. Monday, August 30, 2010, through 11:59 p.m. Monday, September 6, 2010, such vehicles must display evidence of registration at all times in such manner that it is visible from the rear of the vehicle while the vehicle is in motion;

(e) Motorized skateboards or Go-Peds with or without handlebars.

2. Definitions:

(a) A motor vehicle is any device designed for and capable of travel over land and which is self-propelled by a motor, but does not include any vehicle operated on rails or any motorized wheelchair;

(b) Motorized wheelchair means a self-propelled wheeled device, designed solely for and used by a mobility-impaired person for locomotion.

I. Public Camping

The event area is closed to public camping with the following exception: Burning Man event ticket holders who are camped in designated areas provided by BRC LLC, and ticket holders who are camped in the authorized “pilot camp.” BRC LLC authorized staff, contractors, and BLM-authorized event management-related camps are exempt from this closure.

J. Public Use

The event area is closed to use by members of the public unless that person: Possesses a valid ticket to attend the event; is an employee or authorized volunteer with the BLM, a law enforcement agency, emergency medical service provider, fire protection provider, or another public agency working at the event and the employee is assigned to the event; is a person working at or attending the event on behalf of the event organizers, BRC LLC; or is authorized by BRC LLC to be onsite prior to the commencement of the event for the primary purpose of constructing, creating, designing or installing art, displays, buildings, facilities or other items and structures in connection with the event.

K. Waste Water Discharge

The dumping or discharge to the ground of grey water is prohibited. Grey water is water that has been used for cooking, washing, dishwashing, or bathing and contains soap, detergent, food scraps, or food residue.

L. Weapons

1. The possession of any weapon is prohibited.

2. The discharge of any weapon is prohibited.

3. The prohibitions above shall not apply to county, state, tribal, and Federal law enforcement personnel, or any person authorized by Federal law to possess a weapon. “Art projects” that include weapons and are sanctioned by BRC LLC will be permitted after obtaining authorization from the BLM authorized officer.

4. Definitions:

(a) Weapon means a firearm, compressed gas or spring powered pistol or rifle, bow and arrow, cross bow, blowgun, spear gun, hand thrown spear, sling shot, irritant gas device, electric stunning or immobilization device, explosive device, any implement designed to expel a projectile, switch blade knife, any blade which is greater than 10 inches in length from the tip of the blade to the edge of the hilt or finger guard nearest the blade (e.g., swords, dirks, daggers, machetes), or any other weapon the possession of which is prohibited by state law. Exception: The regulation does not apply in a kitchen or cooking environment or where an event worker is wearing or utilizing a construction knife for their duties at the event

(b) Firearm means any pistol, revolver, rifle, shotgun, or other device which is designed to, or may be readily converted to expel a projectile by the ignition of a propellant.

(c) Discharge means the expelling of a projectile from a weapon.

II. Public Closure Area

A. Between August 27, 2010, and September 17, 2010, Inclusive

1. Public Camping

The Public Closure area is closed to public camping.

2. Discharge of Weapons

Discharge of weapons as defined in paragraph (L)(2) of Section (I) is prohibited.

B. Between August 30, 2010, and September 6, 2010, Inclusive

1. Aircraft Landing

The public closure area is closed to aircraft landing, taking off, or taxiing except as described in paragraph (A) of Section I.

2. Disorderly Conduct

Disorderly conduct as defined in paragraph (D)(2) of Section I is prohibited.

3. Eviction of Persons

(a) The Public Closure Area is closed to any person who:

(1) Has been evicted from the event by the permit holder, BRC LLC, whether or not the eviction was requested by the BLM.

(2) Has been ordered by a BLM law enforcement officer to leave the area of the permitted event.

(b) Any person evicted from the event forfeits all privileges to be present within the public closure area even if he or she possesses a ticket to attend the event.

4. Fireworks

The use, sale or possession of personal fireworks is prohibited.

5. Public Use

Public use is prohibited, except for:

(a) passage through, without stopping, the public closure area on the West or East Playa Roads; and

(b) pedestrians with Burning Man tickets outside the fence.

6. Motor Vehicles

The public closure area is closed to motor vehicle use, except for passage through, without stopping, the public closure area on the West or East Playa Roads. Motor vehicle is defined in paragraph (H)(2) of Section (I).

7. Waste Water Discharge

The dumping or discharge to the ground of grey water is prohibited. Grey water is water used for cooking, washing, dishwashing, or bathing and contains soap, detergent, food scraps, or food residue.

8. Weapons

The possession of any weapon as defined in paragraph (L)(4) of Section (I) is prohibited except weapons within motor vehicles passing through the closure area, without stopping on the West or East Playa Roads.

Any person who violates the above rules and restrictions may be tried before a United States Magistrate and fined no more than $1,000, imprisoned for no more than 12 months, or both. Such violations may also be subject to the enhanced fines provided for at 18 U.S.C. 3571.

Authority: 43 CFR 8364.1.

Gene Seidlitz,
District Manager, Winnemucca District.

[FR Doc. 2010-21553 Filed 8-25-10; 4:15 pm]

BILLING CODE 4310-HC-P